DEPARTMENT OF HOMELAND SECURITY

Federal Emergency Management Agency

[Docket ID: FEMA-2019-0004; OMB No. 1660-0011]

Agency Information Collection Activities: Proposed Collection; Comment Request; Submission for OMB Review; Comment Request; Debt Collection Financial Statement

AGENCY: Federal Emergency Management Agency, DHS.

ACTION: Notice and request for comments.

SUMMARY: The Federal Emergency Management Agency, as part of its continuing effort to reduce paperwork and respondent burden, invites the general public to take this opportunity to comment on a reinstatement, without change, of a previously approved information collection for which approval has expired. In accordance with the Paperwork Reduction Act of 1995, this notice seeks comments on the collection of information related to disaster program accounts and debts owed to FEMA by individuals.

DATES: Comments must be submitted on or before September 17, 2019.

ADDRESSES: To avoid duplicate submissions to the docket, please use only one of the following means to submit comments:

(1) Online. Submit comments at www.regulations.gov under Docket ID FEMA-2019-0004. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: You may contact the Information Management Division for copies of the proposed collection of information at email address: FEMA-Information-Collections-Management@fema.dhs.gov or Zita Zduoba, FEMA Finance Center, Office of the Chief Financial Officer, at (540) 504-1613.

SUPPLEMENTARY INFORMATION: Under the Debt Collection Act as amended (31 U.S.C. 3701, et. seq.), the Federal Claims Collection Standards (31 CFR parts 900-904), and the Department of Homeland Security (DHS) regulations (6 CFR Part 11); the Administrator of the Federal Emergency Management Agency (FEMA) is: (1) Required to attempt collection of all debts owed to the United States arising out of activities of the FEMA; and (2) for debts not exceeding $100,000, authorized to compromise such debts or terminate collection action completely where it appears that no person is liable for such debt or has the present or prospective financial ability to pay a significant sum or that the cost of collecting such debt is likely to exceed the amount of the recovery (31 U.S.C. 3711(a)(2)).

This information collection expired on June 30, 2019. FEMA is requesting a reinstatement, without change, of a previously approved information collection for which approval has expired.

Collection of Information

Title: Debt Collection Financial Statement.

Type of information collection: Reinstatement, without change, of a previously approved information collection for which approval has expired.

OMB Number: 1660-0011.

Form Titles and Numbers: Debt Collection Financial Statement, FEMA form 127-0-1.

Abstract: FEMA Form 127-0-1 is used to collect information provided voluntarily by the debtor to evaluate the debtor's financial abilities to determine if they qualify for a payment plan and set repayment terms or determine a compromise to write-off a debt in part or in full. Financial information obtained is essential to evaluate the debtor's ability for the payment of the debt in part or in full. Debt may be a recoupment of an ineligible disaster assistance payment or improper payment to an employee.

Affected Public: Individuals or households.

Estimated Number of Respondents: 300.

Estimated Number of Responses: 300.

Estimated Total Annual Burden Hours: 225.

Estimated Total Annual Respondent Cost: $8,206.

Estimated Respondents' Operation and Maintenance Costs: $0.

Estimated Respondents' Capital and Start-Up Costs: $0.

Estimated Total Annual Cost to the Federal Government: $41,661.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Office of the Chief Administrative Officer, Mission Support, Federal Emergency Management Agency, Department of Homeland Security.

[FR Doc. 2019-15432 Filed 7-18-19; 8:45 am]

BILLING CODE 9111-19-P